DEPARTMENT OF TRANSPORTATION

Maritime Administration

[Docket No. MARAD-2021-0121]

Request for Comments of a Previously Approved Information Collection: Center of Excellence for Domestic Maritime Workforce Training and Education Annual Applications for Designation

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 7, 2021.

DATES: Comments must be submitted on or before August 5, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Gerard Wall, Maritime Administration, at gerard.wall@dot.gov or at 202-366-7273. You may send mail to Gerard Wall, Centers of Excellence Program Manager, Room W23-470, Maritime Administration, U.S. Department of Transportation, 1200 New Jersey Avenue SE, Washington, DC 20590.

SUPPLEMENTARY INFORMATION:

Title: Center of Excellence for Domestic Maritime Workforce Training and Education Annual Applications for Designation.

OMB Control Number: 2133-0549.

Type of Request: Renewal of a Previously Approved Information Collection.

Background: To implement Section 3507 of the National Defense Authorization Act of 2018, Public Law 115-91 (the “Act”), codified at 46 U.S.C. 51705 (previously designated as 46 U.S.C. 54102), MARAD developed a procedure to recommend to the Secretary the designation of eligible institutions as Centers of Excellence for Domestic Maritime Workforce Training and Education (CoE). Pursuant to the Act, the Secretary of Transportation may designate certain eligible and qualified training entities as CoEs and may subsequently execute Cooperative Agreements with CoE designees. Authority to administer the CoE program is delegated to MARAD in 49 CFR 1.93(a). The previously approved policy for collecting information is required to administer the Center of Excellence program which supports the DOT strategic goal of Economic Competitiveness, and the MARAD strategic goal to Maintain and Modernize the Maritime workforce.

Respondents: “Community Colleges or Technical Colleges” and “Maritime Training Centers” in certain eligible locations are eligible to apply for CoE designation. Additionally, only “Maritime Training Centers” with a maritime training program in operation on 12 December 2017 are eligible under the statute.

Affected Public: Community Colleges, Technical Colleges and Maritime Training Centers.

Total Estimated Number of Responses: 100.

Frequency of Collection: Annually.

Estimated time per Respondent: 48 hrs.

Total Estimated Number of Annual Burden Hours: 4,800.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

By Order of the Acting Maritime Administrator.
T. Mitchell Hudson, Jr.,
Secretary, Maritime Administration.

[FR Doc. 2021-14324 Filed 7-2-21; 8:45 am]

BILLING CODE 4910-81-P